DEPARTMENT OF JUSTICE

Notice of Lodging of Proposed Consent Decree Under the Clean Air Act, Clean Water Act, and Emergency Planning and Community Right To Know Act

On May 11, 2015, the Department of Justice lodged a proposed Consent Decree with the United States District Court for the Western District of New York in the lawsuit entitled United States and State of New York v. Tonawanda Coke Corporation, Civil Action No. 1:15-cv-00420-WMS.

The Consent Decree resolves the claims of the United States and the State of New York set forth in the complaint against Tonawanda Coke Corporation for violations of the Clean Air Act, the Clean Water Act, and the Emergency Planning and Community Right to Know Act, in connection with its facility located in Tonawanda, New York. Under the Consent Decree, Tonawanda Coke Corporation has agreed to pay a civil penalty of $2,750,000. Of that penalty, $1,750,000 will be paid to the United States and $1,000,000 will be paid to the State of New York. Tonawanda Coke Corporation will also perform a wetlands preservation supplemental environmental project valued at $357,143 and fund a $1,000,000 state-led environmental benefit project fund. In addition, Tonawanda Coke Corporation will perform the injunctive relief required under the Consent Decree.

The publication of this notice opens a period for public comment on the Consent Decree. Comments should be addressed to the Assistant Attorney General, Environment and Natural Resources Division and should refer to United States and State of New York v. Tonawanda Coke Corporation, D.J. Ref. No. 90-5-2-1-09994. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $29.50 (25 cents per page reproduction cost) payable to the United States Treasury. For a paper copy without the exhibits and signature pages, the cost is $20.50.

Maureen Katz,
Assistant Section Chief, Environmental Enforcement Section, Environment and Natural Resources Division.

[FR Doc. 2015-11764 Filed 5-14-15; 8:45 am]

BILLING CODE 4410-15-P